DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 1, 2010.

Interested persons are invited to submit written comments regarding the subject matter of the investigations to the Director, Division of Trade Adjustment Assistance, at the address shown below, not later than June 1, 2010.

Copies of these petitions may be requested under the Freedom of Information Act. Requests may be submitted by fax, courier services, or mail, to FOIA Disclosure Officer, Office of Trade Adjustment Assistance (ETA), U.S. Department of Labor, 200 Constitution Avenue, NW., Washington, DC 20210 or to foiarequest@dol.gov.

Signed at Washington, DC, this 13th day of May 2010.
Richard Church,
Certifying Officer, Division of Trade Adjustment Assistance.

APPENDIX
[TAA petitions instituted between 4/26/10 and 4/30/10]
TA-W | Subject firm (petitioners) | Location | Date of institution | Date of petition
73988 | International Business Machines Corporation (State/One-Stop) | Armonk, NY | 04/26/10 | 03/01/10.
73989 | Chrysler (Union) | Fenton, MO | 04/26/10 | 04/21/10.
73990 | Trinity North American Freight Car, Inc. (State/One-Stop) | Fort Worth, TX | 04/26/10 | 04/23/10.
73991 | JBL Incorporated (Company) | Northridge, CA | 04/26/10 | 04/21/10.
73992 | BP Solar (State/One-Stop) | Frederick, MD | 04/26/10 | 04/23/10.
73993 | Springer Science and Business Media, LLC (Company) | Norwell, MA | 04/26/10 | 04/22/10.
73994 | Thomson Reuters (Workers) | Denver, CO | 04/26/10 | 04/23/10.
73995 | Datamatics Global Services, Inc. (Workers) | Burlington, MA | 04/26/10 | 04/16/10.
73996 | General Electric Company (Company) | Owensboro, KY | 04/27/10 | 04/23/10.
73997 | Citicorp Credit Services, Inc. (State/One-Stop) | St. Louis, MO | 04/27/10 | 04/21/10.
73998 | Dupont Performance Coatings (Company) | Mt. Clemens, MI | 04/27/10 | 04/12/10.
73999 | Webb Furniture Enterprises, Inc. (Company) | Galax, VA | 04/27/10 | 04/23/10.
74000 | International Business Machines (State/One-Stop) | Endicott, NY | 04/27/10 | 10/07/09.
74001 | Connections, Inc. (Workers) | Concord, NC | 04/27/10 | 04/20/10.
74002 | New Era Cap Company (State/One-Stop) | Mobile, AL | 04/27/10 | 04/19/10.
74003 | VF Jeanswear Limited Partnership (Company) | Greensboro, NC | 04/27/10 | 04/22/10.
74004 | Dixie Belle Textiles, Inc. (Company) | Elkin, NC | 04/27/10 | 04/20/10.
74005 | Pentair (Workers) | Rockford, IL | 04/28/10 | 04/15/10.
74006 | CIGNA (Workers) | Fort Scott, KS | 04/28/10 | 04/26/10.
74007 | SyChip, Inc. (Company) | Berkeley Heights, NJ | 04/28/10 | 04/23/10.
74008 | Cooper, Crause-Hinds MTL, Inc. (State/One-Stop) | West Melbourne, FL | 04/28/10 | 04/20/10.
74009 | Akzo Nobel (Union) | Brecksville, OH | 04/28/10 | 04/22/10.
74010 | General Electric Control Products (Company) | Morrison, IL | 04/28/10 | 04/26/10.
74011 | Kennametal, Inc. (Workers) | Bedford, PA | 04/28/10 | 04/27/10.
74012 | GM Powertrain Defiance Foundry (State/One-Stop) | Defiance, OH | 04/29/10 | 04/14/10.
74013 | WellPoint, Inc. (Company) | Denver, CO | 04/29/10 | 04/27/10.
74014 | 763 Fashion, Inc. (Workers) | New York, NY | 04/29/10 | 04/19/10.
74015 | Hutchins and Perreault, Inc. (Company) | East Barre, VT | 04/29/10 | 04/27/10.
74016 | Mid-Park Metals (SST) (Workers) | Leitchfield, KY | 04/29/10 | 04/22/10.
74017 | Asten Johnson (Company) | Jonesboro, GA | 04/29/10 | 04/21/10.
74018 | Paramount Multi-Services, LLC (Company) | Dallas, TX | 04/29/10 | 04/28/10.
74019 | Choicepoint (Workers) | Brea, CA | 04/29/10 | 04/26/10.
74020 | The Electric Materials Company (Workers) | North East, PA | 04/29/10 | 04/12/10.
74021 | Diagnostic Staffing Services (Company) | Pittsburgh, PA | 04/29/10 | 04/27/10.
74022 | WestPoint Home, Inc. (Company) | West Point, GA | 04/29/10 | 04/27/10.
74023 | WestPoint Home (Company) | Clemson, SC | 04/29/10 | 04/27/10.
74024 | Hewlett-Packard Company (State/One-Stop) | Stone Mountain, GA | 04/29/10 | 04/28/10.
74025 | Babcock Lumber Company (Workers) | St. Marys, PA | 04/29/10 | 04/23/10.
74026 | Form Tech Fraser (State/One-Stop) | Fraser, MI | 04/30/10 | 04/08/10.
74027 | UPS Supply Chain Solutions (Workers) | Dunmore, PA | 04/30/10 | 04/21/10.
74028 | Imhauser Corporation (Company) | Romney, WV | 04/30/10 | 04/28/10.
74029 | Mohican Juvenile Correctional (Workers) | Perrysville, OH | 04/30/10 | 04/29/10.
74030 | Daveco Hydraulics and Welding (Company) | Eureka, CA | 04/30/10 | 04/02/10.

[FR Doc. 2010-12250 Filed 5-20-10; 8:45 am]

BILLING CODE 4510-FN-P